DEPARTMENT OF ENERGY

Federal Energy Regulatory Commission

Combined Notice of Filings #1

Take notice that the Commission received the following electric rate filings:

Docket Numbers: ER10-1123-006.

Applicants: Union Electric Company.

Description: Notice of Change in Status of Union Electric Company.

Filed Date: 1/21/21.

Accession Number: 20210121-5319.

Comments Due: 5 p.m. ET 2/11/21.

Docket Numbers: ER19-1959-004.

Applicants: Avista Corporation.

Description: Compliance filing: Avista Corp 845/845A Conformed Version LGIP to be effective 1/25/2021.

Filed Date: 1/22/21.

Accession Number: 20210122-5049.

Comments Due: 5 p.m. ET 2/12/21.

Docket Numbers: ER20-1839-002.

Applicants: VETCO.

Description: Compliance filing: Amended Order No. 864 Compliance Filing to be effective 3/26/2020.

Filed Date: 1/22/21.

Accession Number: 20210122-5058.

Comments Due: 5 p.m. ET 2/12/21.

Docket Numbers: ER20-1992-001.

Applicants: Public Service Company of New Mexico.

Description: Compliance filing: PNM Response to December 22, 2020 Deficiency Letter to be effective 1/27/2020.

Filed Date: 1/21/21.

Accession Number: 20210121-5300.

Comments Due: 5 p.m. ET 2/11/21.

Docket Numbers: ER21-926-000.

Applicants: California Independent System Operator Corporation.

Description: § 205(d) Rate Filing: 2021-01-21 CCSF First Amendment to Second Amended ROA to be effective 3/23/2021.

Filed Date: 1/21/21.

Accession Number: 20210121-5267.

Comments Due: 5 p.m. ET 2/11/21.

Docket Numbers: ER21-927-000.

Applicants: Cleveland-Cliffs Steel LLC.

Description: § 205(d) Rate Filing: Notice of Succession filing to be effective 1/22/2021.

Filed Date: 1/21/21.

Accession Number: 20210121-5269.

Comments Due: 5 p.m. ET 2/11/21.

Docket Numbers: ER21-928-000.

Applicants: Cleveland-Cliffs Cleveland Works LLC.

Description: § 205(d) Rate Filing: Notice of Succession filing to be effective 12/23/2020.

Filed Date: 1/21/21.

Accession Number: 20210121-5271.

Comments Due: 5 p.m. ET 2/11/21.

Docket Numbers: ER21-929-000.

Applicants: PJM Interconnection, L.L.C.

Description: § 205(d) Rate Filing: Amendment to ISA, SA No. 4608; Queue No. AE2-155 (amend) to be effective 4/30/2020.

Filed Date: 1/21/21.

Accession Number: 20210121-5290.

Comments Due: 5 p.m. ET 2/11/21.

Docket Numbers: ER21-930-000.

Applicants: American Transmission Systems, Incorporated, PJM Interconnection, L.L.C.

Description: § 205(d) Rate Filing: ATSI submits ECSAs, SA Nos. 5913, 5914, and 5915 to be effective 3/24/2021.

Filed Date: 1/22/21.

Accession Number: 20210122-5034.

Comments Due: 5 p.m. ET 2/12/21.

Docket Numbers: ER21-931-000.

Applicants: NorthWestern Corporation.

Description: § 205(d) Rate Filing: SA 905—Agreement to Provide Services with GCC Three Forks LLC to be effective 1/25/2021.

Filed Date: 1/22/21.

Accession Number: 20210122-5072.

Comments Due: 5 p.m. ET 2/12/21.

Docket Numbers: ER21-932-000.

Applicants: Louisville Gas & Electric Company.

Description: Notice of Termination of a Transmission Lease Agreement of Louisville Gas and Electric Company.

Filed Date: 1/22/21.

Accession Number: 20210122-5079.

Comments Due: 5 p.m. ET 2/12/21.

Docket Numbers: ER21-933-000.

Applicants: Peetz Table Wind Energy, LLC.

Description: Tariff Cancellation: Peetz Table Wind Energy, LLC Cancellation of MBR Tariff to be effective 1/23/2021.

Filed Date: 1/22/21.

Accession Number: 20210122-5119.

Comments Due: 5 p.m. ET 2/12/21.

Docket Numbers: ER21-934-000.

Applicants: Northern Colorado Wind Energy, LLC.

Description: Tariff Cancellation: Northern Colorado Wind Energy, LLC Cancellation of MBR Tariff to be effective 1/23/2021.

Filed Date: 1/22/21.

Accession Number: 20210122-5121.

Comments Due: 5 p.m. ET 2/12/21.

Docket Numbers: ER21-935-000.

Applicants: Crowned Ridge Interconnection, LLC.

Description: Tariff Cancellation: Crowned Ridge Interconnection, LLC, to be effective 1/23/2021.

Filed Date: 1/22/21.

Accession Number: 20210122-5126.

Comments Due: 5 p.m. ET 2/12/21.

Take notice that the Commission received the following public utility holding company filings:

Docket Numbers: PH21-7-000.

Applicants: BlackRock, Inc.

Description: BlackRock, Inc. submits FERC-65-A Notice of Change in Fact to Exemption Notification.

Filed Date: 1/21/21.

Accession Number: 20210121-5318.

Comments Due: 5 p.m. ET 2/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: January 22, 2021.
Kimberly D. Bose,
Secretary.

[FR Doc. 2021-01870 Filed 1-27-21; 8:45 am]

BILLING CODE 6717-01-P